DEPARTMENT OF THE TREASURY

Internal Revenue Service (IRS)

Notice of Open Meeting of New York Metro Citizen Advocacy Panel

SUMMARY: An open meeting of the New York Metro Citizen Advocacy Panel will be held in Manhattan, New York.

DATES: The meeting will be held Thursday, May 10, 2001.

FOR FURTHER INFORMATION CONTACT: Eileen Cain at 1-888-912-1227 or 718-488-3555.

SUPPLEMENTARY INFORMATION: Notice is hereby given pursuant to section 10(a)(2) of the Federal Advisory Committee Act, 5 U.S.C. App. (1988) that an operational meeting of the Citizen Advocacy Panel will be held Thursday, May 10, 2001, 6:00 p.m. to 8:30 p.m. at the Norman Thomas High School, 111 East 33rd Street—at Park Ave., Manhattan, NY. If you are in need of a hearing impaired or a language interpreter or for more information, please contact Eileen Cain.

Mrs. Cain can be reached at 1-888-912-1227 or 718-488-3555. The public is invited to make oral comments from 6:30 p.m. to 8:30 p.m. on Thursday, May 10, 2001. Individual comments will be limited to 5 minutes. If you would like to have the CAP consider a written statement, please call 1-888-912-1227 or 718-488-3555, or write Eileen Cain, CAP Office, P.O. Box R, Brooklyn, NY, 11201. The Agenda will include the following: various IRS issues.

Note: Last minute changes to the agenda are possible and could prevent effective advance notice.

Dated: April 3, 2001.
Cathy VanHorn,
Director, Citizen Advocacy Panel (CAP), Communication and Liaison.

[FR Doc. 01-8954 Filed 4-10-01; 8:45 am]

BILLING CODE 4830-01-M